DEPARTMENT OF THE INTERIOR

Bureau of Reclamation

Quarterly Status Report of Water Service, Repayment, and Other Water-Related Contract Negotiations

AGENCY: Bureau of Reclamation, Interior.

ACTION: Notice.

SUMMARY: Notice is hereby given of proposed contractual actions pending through December 31, 2001, and contract actions that have been completed or discontinued since the last publication of this notice on October 25, 2001. From the date of this publication, future quarterly notices during this calendar year will be limited to new, modified, discontinued, or completed contract actions. This annual notice should be used as a point of reference to identify changes in future notices. This notice is one of a variety of means used to inform the public about proposed contractual actions for capital recovery and management of project resources and facilities. Additional Bureau of Reclamation (Reclamation) announcements of individual contract actions may be published in the Federal Register and in newspapers of general circulation in the areas determined by Reclamation to be affected by the proposed action. Announcements may be in the form of news releases, legal notices, official letters, memorandums, or other forms of written material. Meetings, workshops, and/or hearings may also be used, as appropriate, to provide local publicity. The public participation procedures do not apply to proposed contracts for sale of surplus or interim irrigation water for a term of 1 year or less. Either of the contracting parties may invite the public to observe contract proceedings. All public participation procedures will be coordinated with those involved in complying with the National Environmental Policy Act.

ADDRESSES: The identity of the approving officer and other information pertaining to a specific contract proposal may be obtained by calling or writing the appropriate regional office at the address and telephone number given for each region in the supplementary information.

FOR FURTHER INFORMATION CONTACT: Sandra L. Simons, Manager, Water Contracts and Repayment Office, Bureau of Reclamation, PO Box 25007, Denver, Colorado 80225-0007; telephone 303-445-2902.

SUPPLEMENTARY INFORMATION: Pursuant to section 226 of the Reclamation Reform Act of 1982 (96 Stat. 1273) and 43 CFR 426.20 of the rules and regulations published in 52 FR 11954, Apr. 13, 1987, Reclamation will publish notice of the proposed or amendatory contract actions for any contract for the delivery of project water for authorized uses in newspapers of general circulation in the affected area at least 60 days prior to contract execution. Pursuant to the “Final Revised Public Participation Procedures” for water resource-related contract negotiations, published in 47 FR 7763, Feb. 22, 1982, a tabulation is provided of all proposed contractual actions in each of the five Reclamation regions. Each proposed action is, or is expected to be, in some stage of the contract negotiation process in 2002. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act (80 Stat. 383), as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to: (i) the significance of the modification, and (ii) the degree of public interest which has been expressed over the course of the negotiations. As a minimum, the regional director shall furnish revised contracts to all parties who requested the contract in response to the initial public notice.

Acronym Definitions Used Herein

BON Basis of Negotiation

BCP Boulder Canyon Project

Reclamation Bureau of Reclamation

CAP Central Arizona Project

CUP Central Utah Project

CVP Central Valley Project

CRSP Colorado River Storage Project

D&MC Drainage and Minor Construction

FR Federal Register

IDD Irrigation and Drainage District

ID Irrigation District

M&I Municipal and Industrial

NEPA National Environmental Policy Act

O&M Operation and Maintenance

P-SMBP Pick-Sloan Missouri Basin Program

PPR Present Perfected Right

RRA Reclamation Reform Act

R&B Rehabilitation and Betterment

SOD Safety of Dams

SRPA Small Reclamation Projects Act

WCUA Water Conservation and Utilization Act

WD Water District

Pacific Northwest Region: Bureau of Reclamation, 1150 North Curtis Road, Suite 100, Boise, Idaho 83706-1234, telephone 208-378-5223.

1. Irrigation, M&I, and miscellaneous water users; Idaho, Oregon, Washington, Montana, and Wyoming: Temporary or interim water service contracts for irrigation, M&I, or miscellaneous use to provide up to 10,000 acre-feet of water annually for terms up to 5 years; long-term contracts for similar service for up to 1,000 acre-feet of water annually.

2. Rogue River Basin Water Users, Rogue River Basin Project, Oregon: Water service contracts; $8 per acre-foot per annum.

3. Willamette Basin Water Users, Willamette Basin Project, Oregon: Water service contracts; $8 per acre-foot per annum.

4. Pioneer Ditch Company, Boise Project, Idaho; Clark and Edwards Canal and Irrigation Company, Enterprise Canal Company, Ltd., Fremont-Madison ID, Lenroot Canal Company, Liberty Park Canal Company, Parsons Ditch Company, Poplar ID, Wearyrick Ditch Company, all in the Minidoka Project, Idaho; Juniper Flat District Improvement Company, Wapinitia Project, Oregon; and Gem, Ridgeview, and Owyhee IDs, Owyhee Project, Oregon: Amendatory repayment and water service contracts; purpose is to conform to the RRA (Public Law 97-293).

5. Bridgeport ID, Chief Joseph Dam Project, Washington: Warren Act contract for the use of an irrigation outlet in Chief Joseph Dam.

6. Palmer Creek Water District Improvement Company, Willamette Basin Project, Oregon: Irrigation water service contract for approximately 13,000 acre-feet.

7. U. S. Fish and Wildlife Service and Boise-Kuna ID, Boise Project, Idaho: Memorandum of agreement for the use of approximately 400 acre-feet of storage space annually in Anderson Ranch Reservoir. Water to be used for wildlife mitigation purposes (ponds and wetlands).

8. North Unit ID and/or city of Madras, Deschutes Project, Oregon: Long-term municipal water service contract for provision of approximately 125 acre-feet annually from the project water supply to the city of Madras.

9. North Unit ID, Deschutes Project, Oregon: Warren Act contract with cost of service charge to allow for use of project facilities to convey nonproject water.

10. Baker Valley ID, Baker Project, Oregon: Warren Act contract with cost of service charge to allow for use of project facilities to store nonproject water.

11. Trendwest Resorts, Yakima Project, Washington: Long-term water exchange contract for assignment of Teanaway River and Big Creek water rights to Reclamation for instream flow use in exchange for annual use of up to 3,500 acre-feet of water from Cle Elum Reservoir for a proposed resort development.

12. City of Cle Elum, Yakima Project, Washington: Contract for up to 2,170 acre-feet of water for municipal use.

13. Burley ID, Minidoka Project, Idaho-Wyoming: Supplemental and amendatory contract providing for the transfer of O&M of the headworks of the Main South Side Canal and works incidental thereto.

14. Minidoka ID, Minidoka Project, Idaho-Wyoming: Supplemental and amendatory contract providing for the transfer of O&M of the headworks of the Main North Side Canal and works incidental thereto.

15. Fremont-Madison ID, Minidoka Project, Idaho-Wyoming: Repayment contract for reimbursable cost of SOD modifications to Grassy Lake Dam.

16. Twenty-two irrigation districts of the Storage Division, Yakima Project, Washington: Repayment agreements for the reimbursable cost of SOD modifications to Keechelus Dam.

17. Wenatchee Heights Reclamation District, Washington: Deferment contract for the deferment of the District's annual installments due in 2001 and 2002 under a Drought Act loan contract.

18. Individual irrigation water user, Rogue River Basin Project, Oregon: Water service contract to provide 1,029 acre-feet of stored water from Lost Creek Reservoir (a Corps of Engineers' project) for the purpose of irrigation.

19. Roza ID, Yakima Project, Washington: Deferment contract for the deferment of the District's 2001 construction obligation under the Drought Act of 1959.

20. Queener Irrigation Improvement District, Willamette Basin Project, Oregon: Renewal of long-term water service contract to provide up to 2,150 acre-feet of stored water from the Willamette Basin Project (a Corps of Engineers' project) for the purpose of irrigation within the District's service area.

21. Vale and Warm Springs IDs, Vale Project, Oregon: Repayment contract for reimbursable cost of SOD modifications to Warm Springs Dam.

22. Hermiston, Stanfield, and West Extension IDs, Umatilla Project, Oregon: Amendatory repayment contracts for long-term boundary expansions to include lands outside of federally recognized district boundaries.

The following contract action has been completed since the last publication of this notice on October 25, 2001.

1. (14) Farmer's and Buck and Jones Ditch Associations or the Applegate Irrigation Corporation, Rogue River Basin Project, Oregon: Long-term irrigation water service contract for provision of up to 4,475 acre-feet of stored water from Applegate Reservoir (a Corps of Engineers' project) in exchange for the assignment of Little Applegate River natural flow rights to Reclamation for instream flow use. Contract was executed on October 1, 2001.

Mid-Pacific Region: Bureau of Reclamation, 2800 Cottage Way, Sacramento, California 95825-1898, telephone 916-978-5250.

1. Irrigation water districts, individual irrigators, M&I and miscellaneous water users, Mid-Pacific Region projects other than CVP: Temporary (interim) water service contracts for available project water for irrigation, M&I, or fish and wildlife purposes providing up to 10,000 acre-feet of water annually for terms up to 5 years; temporary Warren Act contracts for use of project facilities for terms up to 1 year; temporary conveyance agreements with the State of California for various purposes; long-term contracts for similar service for up to 1,000 acre-feet annually.

Note: Upon written request, copies of the standard forms of temporary water service contracts for the various types of service are available from the Regional Director at the address shown above.

2. Contractors from the American River Division, Cross Valley Canal, Delta Division, Friant Division, Sacramento River Division, San Felipe Division, Shasta Division, Trinity River Division, and West San Joaquin Division, CVP, California: Early renewal of existing long-term contracts; long-term renewal of the interim renewal water service contracts expiring in 2002; water quantities for these contracts total in excess of 3.4M acre-feet. These contract actions will be accomplished through long-term renewal contracts pursuant to Public Law 102-575. Prior to completion of negotiation of long-term renewal contracts, existing interim renewal water service contracts may be renewed through successive interim renewal of contracts.

3. Redwood Valley County WD, SRPA, California: Restructuring the repayment schedule pursuant to Public Law 100-516.

4. El Dorado County Water Agency, CVP, California: M&I water service contract to supplement existing water supply: 15,000 acre-feet for El Dorado County Water Agency authorized by Public Law 101-514.

5. Sutter Extension and Biggs-West Gridley WDs, Buena Vista Water Storage District, and the State of California Department of Water Resources, CVP, California: Pursuant to Public Law 102-575, conveyance agreements for the purpose of wheeling refuge water supplies and funding District facility improvements and exchange agreements to provide water for refuge and private wetlands.

6. Mountain Gate Community Services District, CVP, California: Amendment of existing long-term water service contract to include right to renew. This amendment will also conform the contract to current Reclamation law, including Public Law 102-575.

7. Cachuma Operation and Maintenance Board, Cachuma Project, California: Repayment contract for SOD work on Bradbury Dam.

8. CVP Service Area, California: Temporary water purchase agreements for acquisition of 20,000 to 200,000 acre-feet of water for fish and wildlife purposes as authorized by the Central Valley Project Improvement Act for terms of up to 3 years.

9. City of Roseville, CVP, California: Execution of long-term Warren Act contract for conveyance of nonproject water provided from the Placer County Water Agency. This contract will allow CVP facilities to be used to deliver nonproject water to the City of Roseville for use within their service area.

10. Sacramento Municipal Utility District, CVP, California: Amendment of existing water service contract to allow for additional points of diversion and assignment of up to 30,000 acre-feet of project water to the Sacramento County Water Agency. The amended contract will conform to current Reclamation law.

11. Mercy Springs WD, CVP, California: Partial assignment of about 7,000 acre-feet of Mercy Springs WD's water service contract to Westlands WD for agricultural use.

12. Cachuma Operations and Maintenance Board, Cachuma Project, California: Temporary interim contract (not to exceed 1 year) to transfer responsibility of certain Cachuma Project facilities to member units.

13. M&T, Inc., Sacramento River Water Rights Contractors, CVP, California: A proposed exchange agreement with M&T, Inc., to take Butte Creek water rights water from the Sacramento River in exchange for CVP water to facilitate habitat restoration.

14. El Dorado ID, CVP, California: Execution of long-term Warren Act contract for conveyance of nonproject water. This contract will allow CVP facilities to be used to deliver nonproject water to the El Dorado ID for use within their service area.

15. Placer County Water Agency, CVP, California: Amendment of existing water service contract to allow for additional points of diversion and adjustment to CVP water quantities. The amended contract will conform to current Reclamation law.

16. Horsefly, Klamath, Langell Valley, and Tulelake IDs, Klamath Project, Oregon: Repayment contract for SOD work on Clear Lake Dam.

17. Casitas Municipal WD, Ventura Project, California: Repayment contract for SOD work on Casistas Dam.

18. Warren Act Contracts, CVP, California: Execution of long-term Warren Act contracts (up to 25 years) with various entities for conveyance of nonproject water in the Delta-Mendota Canal and the Friant Division facilities.

19. Tuolumne Utilities District (formerly Tuolumne Regional WD), CVP, California: Long-term water service contract for up to 9,000 acre-feet from New Melones Reservoir, and possibly long-term contract for storage of nonproject water in New Melones Reservoir.

20. Banta Carbona ID, CVP, California: Long-term Warren Act contract for conveyance of nonproject water in the Delta-Mendota Canal.

21. Plain View WD, CVP, California: Long-term Warren Act contract for conveyance of nonproject water in the Delta-Mendota Canal.

22. City of Redding, CVP, California: Amend water service contract, No. 14-06-200-5272A, for the purpose of renegotiating the provisions of contract Article 15, “Water Shortage and Apportionment,” to conform to current CVP M&I water shortage policy.

23. Byron-Bethany ID, CVP, California: Long-term Warren Act contract for conveyance of nonproject water in the Delta-Mendota Canal.

24. Resource Renewal Institute, CVP, California: Proposed water purchase agreement with Resource Renewal Institute for the permanent purchase of water rights on Butte Creek for instream flow purposes.

25. Sacramento Area Flood Control Agency, CVP, California: Execution of a long-term operations agreement for flood control operations of Folsom Dam and Reservoir to allow for recovery of costs associated with operating a variable flood control pool of 400,000 to 670,000 acre-feet of water during the flood control season. This agreement is to conform to Federal law.

26. Lower Tule River, Porterville, and Vandalia IDs; and Pioneer Water Company, Success Project, California: Repayment contract for the SOD costs assigned to the irrigation purpose of Success Dam.

27. Colusa County WD, CVP, California: Proposed long-term Warren Act contract for conveyance of up to 4,500 acre-feet of ground water through the Tehama-Colusa Canal.

28. Friant Water Users Authority and San Luis and Delta-Mendota Water Authority, CVP, California: Amendments to the Operation, Maintenance, and Replacement and Certain Financial and Administrative Activities' Agreements to implement certain changes to the Direct Funding provisions to comply with applicable Federal law.

29. Madera-Chowchilla Water and Power Authority, CVP, California: Agreement to transfer the operation, maintenance, and replacement and certain financial and administrative activities related to the Madera Canal and associated works.

30. El Dorado ID, CVP, California: Title transfer agreement for conveyance of CVP facilities. This agreement will allow transfer of title for Sly Park Dam, Jenkinson Lake, and appurtenant facilities from the CVP to El Dorado ID.

31. Foresthill Public Utility District, CVP, California: Title transfer agreement for conveyance of CVP facilities. This agreement will allow transfer of title for Sugar Pine Dam and appurtenant facilities from the CVP to Foresthill Public Utility District.

32. Carpinteria WD, Cachuma Project, California: Contract to transfer title of distribution system to the District. Title transfer subject to Congressional ratification.

33. Montecito WD, Cachuma Project, California: Contract to transfer title of distribution system to the District. Title transfer subject to Congressional ratification.

34. City of Vallejo, Solano Project, California: Execution of long-term Warren Act contract for conveyance of nonproject water. This contract will allow Solano Project facilities to be used to deliver nonproject water to the City of Vallejo for use within their service area.

35. Northridge WD, CVP, California: Execution of long-term Warren Act contract for conveyance of nonproject water. This contract will allow CVP facilities to be used to deliver nonproject water to the Northridge WD for use within their service area.

36. Sierra Pacific Power Company, Town of Fernley, State of California, City of Reno, City of Sparks, Washoe County, State of Nevada, Truckee-Carson ID, and any other local interest or Native American Tribal Interest, who may have negotiated rights under Public Law 101-618; Nevada and California: Contract for the storage of non-Federal water in Truckee River reservoirs as authorized by Public Law 101-618 and the Preliminary Settlement Agreement. The contracts shall be consistent with the Truckee River Water Quality Settlement Agreement and the terms and conditions of the proposed Truckee River Operating Agreement.

37. Contra Costa WD, CVP, California: Amend water service contract No. I75r-3401A to extend the date for renegotiation of the provisions of contract Article 12 “Water Shortage and Apportionment.”

38. Cachuma Operation and Maintenance Board, Cachuma Project, California: Contract to transfer responsibility for O&M and O&M funding of certain Cachuma Project facilities to the member units.

The following contract action has been discontinued since the last publication of this notice on October 25, 2001.

1. (45) Delano-Earlimart, Exeter, Ivanhoe, Lindmore, Lindsay-Strathmore, Madera, Shafter-Wasco, and Stone Corral IDs; South San Joaquin Municipal Utilities District; and Tea Pot Dome WD; Friant Unit, CVP, California: Contract to transfer title of 11 distribution systems to the respective districts. All title transfers subject to Congressional ratification. This item is discontinued because the districts are reviewing the feasibility of the proposal to transfer the distribution systems.

The following contract action has been completed since the last publication of this notice on October 25, 2001.

1. (28) Tehama-Colusa Canal Authority, CVP, California: Amendment of existing long-term O&M agreement to also include the O&M of the Red Bluff Diversion Dam and related facilities and to implement certain changes to the Direct Funding provisions of the O&M Agreement to comply with applicable Federal law. Amendatory contract executed December 13, 2001.

Lower Colorado Region: Bureau of Reclamation, PO Box 61470 (Nevada Highway and Park Street), Boulder City, Nevada 89006-1470, telephone 702-293-8536.

1. Milton and Jean Phillips, Cameron Brothers Construction Co., Ogram Farms, John J. Peach, Sunkist Growers, Inc., BCP, Arizona: Colorado River water delivery contracts, as recommended by the Arizona Department of Water Resources, with agricultural entities located near the Colorado River for up to 3,168 acre-feet per year total.

2. Brooke Water Co., BCP, Arizona: Amend contract for an additional 120 acre-feet per year of Colorado River water for domestic uses as recommended by the Arizona Department of Water Resources.

3. National Park Service for Lake Mead National Recreation Area, Supreme Court Decree in Arizona v. California, and BCP in Arizona and Nevada: Agreement for delivery of Colorado River water for the National Park Service's Federal Establishment PPR for diversion of 500 acre-feet annually and the National Park Service's Federal Establishment PPR pursuant to Executive Order No. 5125 (April 25, 1930).

4. Miscellaneous PPR entitlement holders, BCP, Arizona and California: New contracts for entitlement to Colorado River water as decreed by the U.S. Supreme Court in Arizona v. California, as supplemented or amended, and as required by section 5 of the Boulder Canyon Project Act. Miscellaneous PPRs holders are listed in the January 9, 1979, Supreme Court Supplemental Decree in Arizona v. California et al.

5. Miscellaneous PPR No. 11, BCP, Arizona: Assign a portion of the PPR from Holpal to McNulty et al.

6. Curtis Family Trust et al., BCP, Arizona: Contract for 2,100 acre-feet per year of Colorado River water for irrigation.

7. Beattie Farms SW, BCP, Arizona: Contract for 1,890 acre-feet per year of unused Arizona entitlement of Colorado River water for irrigation.

8. U.S. Fish and Wildlife Service, Lower Colorado River Refuge Complex, BCP, Arizona: Agreement to administer the Colorado River water entitlement for refuge lands located in Arizona to resolve water rights coordination issues and to provide for an additional entitlement for non-consumptive use of flow through water.

9. Maricopa-Stanfield IDD, CAP, Arizona: Amend distribution system repayment contract No. 4-07-30-W0047 to reschedule repayment pursuant to June 28, 1996, agreement.

10. Indian and non-Indian agricultural and M&I water users, CAP, Arizona: New and amendatory contracts for repayment of Federal expenditures for construction of distribution systems.

11. San Tan ID, CAP, Arizona: Amend distribution system repayment contract No. 6-07-30-W0120 to increase the repayment obligation by approximately $168,000.

12. Central Arizona Drainage and ID, CAP, Arizona: Amend distribution system repayment contract No. 4-07-30-W0048 to modify repayment terms pursuant to final order issued by U.S. Bankruptcy Court, District of Arizona.

13. City of Needles, Lower Colorado Water Supply Project, California: Amend contract No. 2-07-30-W0280 to extend the City's water service subcontracting authority to the Counties of Imperial and Riverside.

14. Imperial ID/Coachella Valley WD and/or The Metropolitan WD of Southern California, BCP, California: Contract to fund the Department of the Interior's expenses to conserve All-American Canal seepage water in accordance with Title II of the San Luis Rey Indian Water Rights Settlement Act dated November 17, 1988.

15. Coachella Valley WD and/or The Metropolitan WD of Southern California, BCP, California: Contract to fund the Department of the Interior's expenses to conserve seepage water from the Coachella Branch of the All-American Canal in accordance with Title II of the San Luis Rey Indian Water Rights Settlement Act, dated November 17, 1988.

16. Salt River Pima-Maricopa Indian Community, CAP, Arizona: O&M contract for its CAP water distribution system.

17. Arizona State Land Department, BCP, Arizona: Colorado River water delivery contract for 1,535 acre-feet per year for domestic use.

18. Miscellaneous PPR No. 38, BCP, California: Assign Schroeder's portion of the PPR to Murphy Broadcasting.

19. Berneil Water Co., CAP, Arizona: Water service contracts associated with partial assignment of water service to the Cave Creek Water Company.

20. Tohono O'odham Nation, CAP, Arizona: Repayment contract for a portion of the construction costs associated with water distribution system for Central Arizona IDD.

21. Tohono O'odham Nation, CAP, Arizona: Contracts for Schuk Toak and San Xavier Districts for repayment of Federal expenditures for construction of distribution systems.

22. Canyon Forest Village II Corporation, BCP, Arizona: Colorado River water delivery contract for up to 400 acre-feet per year of unused Arizona apportionment or surplus apportionment for domestic use.

23. Gila Project Works, Gila Project, Arizona: Title transfer of facilities and certain lands in the Wellton-Mohawk Division from the United States to the Wellton-Mohawk IDD.

24. ASARCO Inc., CAP, Arizona: Amendment of subcontract to extend the deadline until December 31, 2002, for giving notice of termination on exchange.

25. Cyprus Miami Mining Corporation, CAP, Arizona: Amendment of subcontract to extend the deadline until December 31, 2002, for giving notice of termination on exchange.

26. Gila River Indian Community, CAP, Arizona: Amend CAP water delivery contract and distribution system repayment and operation, maintenance, and replacement contract pursuant to anticipated Gila River Indian Community Water Rights Settlement Agreement.

27. California Water Districts, BCP, California: Incorporate into the water delivery contracts with several water districts (Coachella Valley WD, Imperial ID, Palo Verde ID, and The Metropolitan WD of Southern California), through new contracts, contract amendments, contract approvals, or other appropriate means, the agreement to be reached with those water districts to (i) quantify the Colorado River water entitlements for Coachella Valley WD and Imperial ID and (ii) provide a basis for water transfers among California water districts.

28. Coachella Valley WD, BCP, California: Amend contract No. 14-20-650-631 with Coachella Valley WD to include additional lands on the Torres Martinez Indian Reservation that are located within the District's Improvement District No. 1 which were reclassified and determined to be arable.

29. North Gila Valley IDD, Yuma ID, and Yuma Mesa IDD, Yuma Mesa Division, Gila Project, Arizona: Administrative action to amend each district's Colorado River water delivery contract to effectuate a change from a “pooled” water entitlement for the Division to a quantified entitlement for each district.

30. Indian and/or non-Indian M&I users, CAP, Arizona: New or amendatory water service contracts or subcontracts in accordance with an anticipated final record of decision for reallocation of CAP water, as discussed in the Secretary of the Interior's notice published on page 41456 of the FR on July 30, 1999.

31. San Carlos Apache Tribe, CAP, Arizona: Agreement among the San Carlos Apache Tribe, the Salt River Project, and the United States, for exchange of up to 14,000 acre-feet of Black River water for CAP water.

32. San Carlos Apache Tribe, Arizona: Agreement among the San Carlos-Apache Tribe, the United States, and the Phelps Dodge Corporation for the lease of CAP water.

33. Arizona Water Banking Authority and Southern Nevada Water Authority, BCP, Arizona and Nevada: Contract to provide for the interstate contractual distribution of Colorado River water through the offstream storage of Colorado River water in Arizona, the development by the Arizona Water Banking Authority of intentionally created unused apportionment, and the release of this intentionally created unused apportionment by the Secretary of the Interior to Southern Nevada Water Authority.

34. Gila River Farms, Arizona: Amendment of SRPA contract to restructure the repayment schedule.

35. Litchfield Park Service Company, CAP, Arizona: Proposed assignments of 5,580 acre-feet of CAP M&I water to the Central Arizona Groundwater Replenishment District and to the cities of Avondale, Carefree, and Goodyear.

36. Shepard Water Company, Inc., Arizona: Contract for the delivery of 50 acre-feet of domestic water.

37. The United States International Boundary and Water Commission, The Metropolitan WD of Southern California, San Diego County Water Authority, and Otay WD, Mexican Treaty Waters: Agreement for the temporary emergency delivery of a portion of the Mexican Treaty waters of the Colorado River to the International Boundary in the vicinity of Tijuana, Baja California, Mexico.

38. Arizona State Land Department, CAP, Arizona: Proposed assignment of 1,000 acre-feet of the Department's CAP M&I water entitlement to the City of Peoria.

39. Gila River Indian Community, Arizona: Operation, maintenance, and replacement contract for an archeological repository named the Huhugam Heritage Center.

40. Sonny Gowan, BCP, California: Approval to lease up to 175 acre-feet of his PPR water to Moabi Regional Park.

41. Jessen Family Limited Partnership, BCP, Arizona: Partial contract assignment of agricultural water from Arlin Dulin to Jessen Family Limited Partnership.

42. Robson Communities, Southern Arizona Water Rights Settlement Act, Arizona: United States contract with Robson Communities for the sale of 1,618 acre-feet of long-term water storage credits accrued in Tucson during calendar year 2000.

43. Cities of Chandler and Mesa, CAP, Arizona: Amendments to the CAP M&I water service subcontracts of the cities of Chandler and Mesa to remove the language stating that direct effluent exchange agreements with Indian Communities are subject to the “pooling concept.”

44. City of Somerton, BCP, Arizona: Contract for the delivery of up to 750 acre-feet of Colorado River water for domestic use.

45. Various Irrigation Districts, CAP, Arizona: Amend distribution system repayment contracts to provide for partial assumption of debt by the Central Arizona Water Conservation District and the United States upon enactment of Federal legislation providing for resolution of CAP issues.

46. Mohave County Water Authority, BCP, Arizona: Amendatory Colorado River water delivery contract to include the delivery of 3,500 acre-feet per year of fourth priority water and to delete the delivery of 3,500 acre-feet per year of fifth or sixth priority water.

The following contract actions have been discontinued since the last publication of this notice on October 25, 2001.

1. (2) Armon Curtis, Arlin Dulin, Jack Rayner, Glen Curtis, Jamar Produce Corporation, and Ansel T. Hall, BCP, Arizona: Amendatory Colorado River water delivery contracts to exempt each referenced contractor from the acreage limitation and full cost pricing provisions of the RRA.

2. (5) Mohave Valley IDD, BCP, Arizona: Amendment of current contract for additional Colorado River water, change in service area, diversion points, RRA exemption and PPRs.

3. (8) Federal Establishment PPRs entitlement holders, BCP: Individual contracts for administration of Colorado River water entitlement of the Colorado River, Fort Mojave, Quechan, Chemehuevi, and Cocopah Indian Tribes.

4. (9) United States facilities, BCP, California: Reservation of Colorado River water for use at existing Federal facilities and lands administered by Reclamation.

5. (10) Bureau of Land Management, BCP, Arizona: Contract for 1,176 acre-feet per year, for irrigation use, of Arizona's Colorado River water that is not used by higher priority Arizona entitlement holders.

6. (14) Hillander C ID, Colorado River Basin Salinity Control Project, Arizona: Colorado River water delivery contract for 4,500 acre-feet per year.

7. (17) Tohono O'odham Nation, SRPA, Arizona: Repayment contract for a $7.3 million loan for the Schuk Toak District.

8. (36) Agricultural and M&I water users, CAP, Arizona: Water service subcontracts for percentages of available supply reallocated in 1992 for irrigation entities and up to 640,000 acre-feet per year allocated in 1983 for M&I use.

9. (38) Hohokam IDD, CAP, Arizona: Amend water distribution system repayment contract to reflect final project costs.

10. (40) Basic Management, Inc., Salinity Project, Nevada: Title transfer of the Pitman Wash Bypass Demonstration Project Facilities and all interests in acquired lands and easements associated with an obligation to continue bypassing the water in Pitman Wash.

The following contract actions have been completed since the last publication of this notice on October 25, 2001.

1. (25) U.S. Army Proving Ground, BCP, Arizona: Amend agreement to add additional points of diversion for Colorado River water.

2. (58) Golden Shores Water Conservation District, BCP, Arizona: Amendment of water delivery contract to recognize that some private lands outside the district but within its exterior boundaries have been included within the district's boundaries.

Upper Colorado Region: Bureau of Reclamation, 125 South State Street, Room 6107, Salt Lake City, Utah 84138-1102, telephone 801-524-4419.

1. Individual irrigators, M&I, and miscellaneous water users, Initial Units, CRSP; Utah, Wyoming, Colorado, and New Mexico: Temporary (interim) water service contracts for surplus project water for irrigation or M&I use to provide up to 10,000 acre-feet of water annually for terms up to 10 years; long-term contracts for similar service for up to 1,000 acre-feet of water annually.

(a) Harrison F. and Patricia E. Russell: Aspinall Unit, CRSP; Colorado: Contract for 1 acre-foot to support an augmentation plan, Case No. 97CW39, Water Division Court No. 4, State of Colorado, to provide for a single-family residential well, including home lawn and livestock watering (non-commercial).

(b) Walter Daniel Stephens: Aspinall Unit, CRSP; Colorado: Contract for 2 acre-feet to support an augmentation plan, Case No. 97CW49, Water Division Court No. 4, State of Colorado, to provide for pond evaporative depletions during the non-irrigation season.

(c) Larry Allen: Aspinall Unit, CRSP; Colorado: Contract for 1 acre-foot to support an augmentation plan, Case No. 01CW26, Water Division Court No. 4, State of Colorado, to provide for a single-family residential well, including home lawn and livestock watering (non-commercial).

(d) Karl Hipp: Aspinall Unit, CRSP; Colorado: Contract for 1 acre-foot to support an augmentation plan, Case No. 01CW27, Water Division Court No. 4, State of Colorado, to provide for a single-family residential well, including home lawn and livestock watering (non-commercial).

(e) Oliver Woods: Aspinall Unit, CRSP; Colorado: Contract for 1 acre-foot to support an augmentation plan, Case No. 01CW14, Water Division Court No. 4, State of Colorado, to provide for a single-family residential well, including home lawn and livestock watering (non-commercial).

2. Taos Area, San Juan-Chama Project, New Mexico: The Taos area Acequias and the Town and County of Taos are forming a joint powers agreement to form an organization to enter into a repayment contract for up to 2,990 acre-feet of project water to be used for irrigation and M&I in the Taos, New Mexico area.

3. Water Service Contractors, San Juan-Chama Project, New Mexico: Conversion of water service contracts to repayment contracts for the following entities: City of Santa Fe, County of Los Alamos, City of Espanola, Town of Taos, Village of Los Lunas, and Village of Taos Ski Valley.

4. Various Contractors, San Juan-Chama Project, New Mexico: Three potential contracts among the United States, Middle Rio Grande Conservancy District, and the City of Albuquerque to implement terms of Agreed Order Resolving Plaintiff's Motion for Preliminary Injunction, dated August 2, 2000, and the Supplement dated October 5, 2000.

5. Various Contractors, San Juan-Chama Project, New Mexico: The United States proposes to purchase lease water from various contractors to stabilize flows in a critical reach of the Rio Grande in order to meet the needs of irrigators and preserve habitat for the silvery minnow.

6. Provo River Water Users, Provo River Project, Utah: Contract to provide for repayment of reimbursable portion of construction costs of SOD modification to Deer Creek Dam.

7. Upper Gunnison River Water Conservancy District, Wayne N. Aspinall Unit, CRSP, Colorado: A long-term water service contract for up to 25,000 acre-feet for irrigation use.

8. Uncompahgre Valley Water Users Association, Upper Gunnison River Water Conservancy District, and Colorado River Water Conservation District; Uncompahgre Project, Colorado: Water management agreement for water stored at Taylor Park Reservoir and the Wayne N. Aspinall Storage Units to improve water management.

9. Southern Ute Indian Tribe, Florida Project, Colorado: Supplement to contract No. 14-06-400-3038, dated May 7, 1963, for an additional 181 acre-feet of project water, plus 563 acre-feet of water pursuant to the 1986 Colorado Ute Indian Water Rights Final Settlement Agreement.

10. Grand Valley Water Users Association, Orchard Mesa ID, and Public Service Company of Colorado, Grand Valley Project, Colorado: Water service contract for the utilization of project water for cooling purposes for a steam electric generation plant.

11. Sanpete County Water Conservancy District, Narrows Project, Utah: Application for a SRPA loan and grant to construct a dam, reservoir, and pipeline to annually supply approximately 5,000 acre-feet of water through a transmountain diversion from upper Gooseberry Creek in the Price River drainage (Colorado River Basin) to the San Pitch—Savor River (Great Basin).

12. Individual irrigators, Carlsbad Project, New Mexico: The United States proposes to enter into long-term forbearance lease agreements with individuals who have privately held water rights to divert nonproject water either directly from the Pecos River or from shallow/artesian wells in the Pecos River Watershed. This action will result in additional water in the Pecos River to make up for the water depletions caused by changes in operations at Sumner Dam which were made to improve conditions for a threatened species, the Pecos bluntnose shiner.

13. Dolores Water Conservancy District, Dolores Project, Colorado: Amendment to an existing carriage contract to extend the term of the contract from 25 years to a total of 50 years.

14. Ogden River Water Users Association and Weber Basin Water Conservancy District, Ogden River and Weber Basin Projects, Utah: Contract to provide for repayment of water users portion of construction contract due to SOD investigations recommendations at Pineview Dam.

15. Mancos Water Conservancy District, Mancos Project, Colorado: Various carriage contracts with individual irrigators and the District to allow the carriage of up to 1,000 acre-feet of nonproject irrigation water in project facilities under the authority of Public Law 106-549 for the Mancos Project.

16. San Juan Water Commission, New Mexico, Animas-La Plata Project, Colorado and New Mexico: Cost sharing/repayment contract for up to 20,800 acre-feet per year of M&I water; contract terms to be consistent with the Colorado Ute Settlement Act Amendments of 2000 (Title III of Pub. L. 106-554).

17. La Plata Conservancy District, New Mexico, Animas-La Plata Project, Colorado and New Mexico: Cost-sharing/repayment contract for up to 1,560 acre-feet per year of M&I water; contract terms to be consistent with the Colorado Ute Settlement Act Amendments of 2000 (Title III of Pub. L. 106-554).

The following contract actions have been discontinued since the last publication of this notice on October 25, 2001.

1. (1)(b) City of Page Arizona, Glen Canyon Unit, CRSP, Arizona: Long-term contract for 1,000 acre-feet of water for municipal purposes.

2. (1)(c) LeChee Chapter of the Navajo Nation, Glen Canyon Unit, CRSP, Arizona: Long-term contract for 1,000 acre-feet of water for municipal purposes.

3. (10) Public Service Company of New Mexico, CRSP, Navajo Unit, New Mexico: New water service contract for a depletion of 16,200 acre-feet of project water for cooling purposes for a steam electric generation plant.

4. (21) State of Colorado, Animas-La Plata Project, Colorado and New Mexico: Cost-sharing/repayment contract for up to 10,460 acre-feet per year of M&I water; contract terms to be consistent with the Colorado Ute Settlement Act Amendments of 2000 (Title III of Public Law 106-554).

5. (22) Animas-La Plata Water Conservancy District, Colorado, Animas-La Plata Project, Colorado and New Mexico: Cost-sharing/repayment contract for up to 5,200 acre-feet per year of M&I water; contract terms to be consistent with the Colorado Ute Settlement Act Amendments of 2000 (Title III of Public Law 106-554).

The following contract action has been completed since the last publication of this notice on October 25, 2001.

1. (13) Dolores Water Conservancy District, Dolores Project, Colorado: Carriage contract with the District to carry up to 8,000 acre-feet of nonproject water in project facilities under the authority of the Warren Act of 1911. Contract was executed on October 19, 2001.

Great Plains Region: Bureau of Reclamation, PO Box 36900, Federal Building, 316 North 26th Street, Billings, Montana 59107-6900, telephone 406-247-7730.

1. Individual irrigators, M&I, and miscellaneous water users: Colorado, Kansas, Montana, Nebraska, North Dakota, Oklahoma, South Dakota, Texas, and Wyoming: Temporary (interim) water service contracts for the sale, conveyance, storage, and exchange of surplus project water and nonproject water for irrigation or M&I use to provide up to 10,000 acre-feet of water annually for a term up to 1 year.

2. Green Mountain Reservoir, Colorado-Big Thompson Project, Colorado: Water service contracts for irrigation and M&I; contracts for sale of water from the marketable yield to water users within the Colorado River Basin of western Colorado.

3. Ruedi Reservoir, Fryingpan-Arkansas Project, Colorado: Second round water sales from the regulatory capacity of Ruedi Reservoir. Water service and repayment contracts for up to 17,000 acre-feet annually for M&I use; contract with Colorado Water Conservation Board and the U.S. Fish and Wildlife Service for 10,825 acre-feet for endangered fishes.

4. Garrison Diversion Unit, P-SMBP, North Dakota: Renegotiation of the master repayment contract with Garrison Diversion Conservancy District to conform with the Garrison Diversion Unit Reformulation Act of 1986; negotiation of repayment contracts with irrigators and M&I users.

5. City of Rapid City, Rapid Valley Unit, P-SMBP, South Dakota: Contract renewal for storage capacity in Pactola Reservoir. A temporary (1 year not to exceed 10,000 AF) water service contract will be executed with the City of Rapid City, Rapid Valley Unit, for use of water from Pactola Reservoir. A long-term storage contract is being negotiated for water stored in Pactola Reservoir.

6. Pathfinder ID, North Platte Project, Nebraska: Negotiation of contract regarding SOD program modification of Lake Alice Dam No. 1 Filter/Drain.

7. Mid-Dakota Rural Water System, Inc., South Dakota: Pursuant to the Reclamation Projects Authorization and Adjustment Act of 1992, the Secretary of the Interior is authorized to make grants and loans to Mid-Dakota Rural Water System, Inc., a non-profit corporation for the planning and construction of a rural water supply system.

8. Angostura ID, Angostura Unit, P-SMBP, South Dakota: Another interim 3-year contract was executed on June 9, 2000, to provide for a continuing water supply and allow adequate time for completion of the Environmental Impact Statement for long-term contract renewal. A BON for a long-term contract renewal has been approved by the Commissioner's Office.

9. City of Berthoud, Colorado, Colorado-Big Thompson Project, Colorado: Long-term contract for conveyance of nonproject M&I water through Colorado-Big Thompson Project facilities.

10. Northwest Area Water Supply, North Dakota: Long-term contract for water supply from Garrison Diversion Unit facilities. The BON has been approved by the Commissioner. Negotiations are pending.

11. P-SMBP, Kansas: Existing water service contracts with the Kirwin and Webster IDs in the Solomon River Basin in Kansas were extended for a period of 4 years in accordance with Public Law 104-326. These contracts will be renewed prior to their expiration on December 31, 2003 (Kirwin ID), and December 31, 2005 (Webster ID). Reclamation has prepared a draft environmental assessment (DEA) for the conversion of long-term water service contracts to repayment contracts. On December 10, 2001, the DEA became available for a 30-day review and comment period. Public comments will be accepted until January 9, 2002. Written comments should be directed to Jill Manring, Team Leader, Bureau of Reclamation, PO Box 1607, Grand Island, NE 68802.

12. City of Cheyenne, Kendrick Project, Wyoming: Negotiation of a contract to renew for an additional term of 5 years. Contract for up to 10,000 acre-feet of storage space for replacement water on a yearly basis in Seminoe Reservoir. A temporary contract has been issued pending negotiation of the long-term contract.

13. Highland-Hanover ID, P-SMBP, Hanover-Bluff Unit, Wyoming: Renegotiation of long-term water service contract; includes provisions for repayment of construction costs.

14. Upper Bluff ID, P-SMBP, Hanover-Bluff Unit, Wyoming: Renegotiation of long-term water service contract; includes provisions for repayment of construction cost.

15. Fort Clark ID, P-SMBP, North Dakota: Negotiation of water service contract to continue delivery of project water to the District.

16. Western Heart River ID, P-SMBP, Heart Butte Unit, North Dakota: Negotiation of water service contract to continue delivery of project water to the District.

17. Lower Marias Unit, P-SMBP, Montana: Water service contract expired in July 1998. Initiating long-term contract for the use of up to 600 acre-feet of storage water from Tiber Reservoir to irrigate 220 acres. Temporary/interim contracts are being issued to allow continued delivery of water and the time necessary to complete required actions for the long-term contract process.

18. Lower Marias Unit, P-SMBP, Montana: Initiating renewal of long-term water service contract for the use of up to 750 acre-feet of storage water from Tiber Reservoir to irrigate 250 acres. Temporary/interim contracts are being issued to allow continued delivery of water and the time necessary to complete required actions for the long-term contract process.

19. Lower Marias Unit, P-SMBP, Montana: Water service contract expired May 1998. Initiating long-term contract for the use of up to 6,855 acre-feet of storage water from Tiber Reservoir to irrigate 2,285 acres. Temporary/interim contracts are being issued to allow continued delivery of water and the time necessary to complete required actions for the long-term contract process.

20. Dickinson-Heart River Mutual Aid Corporation, P-SMBP, Dickinson Unit, North Dakota: Negotiate renewal of water service contract for irrigation of lands below Dickinson Dam in western North Dakota.

21. Savage ID, P-SMBP, Montana: The District is currently seeking title transfer. The contract is subject to renewal on an annual basis pending outcome of the title transfer process. Interim contracts are being issued to allow continued delivery of water. The District has requested information concerning renewal of the long-term contract.

22. City of Fort Collins, Colorado-Big Thompson Project, Colorado: Long-term contracts for conveyance and storage of nonproject M&I water through Colorado-Big Thompson Project facilities.

23. Standing Rock Sioux Tribe, P-SMBP, North Dakota: Negotiate a long-term water service contract with the Standing Rock Sioux Tribe in North Dakota for irrigation of up to 2,380 acres of land within the reservation.

24. Glendo Unit, P-SMBP, Wyoming: Contract renewal for long-term water service contracts with Burbank Ditch, New Grattan Ditch Company, Torrington ID, Lucerne Canal and Power Company, and Wright and Murphy Ditch Company.

25. Glendo Unit, P-SMBP, Nebraska: Contract renewal for long-term water service contracts with Bridgeport, Enterprise, and Mitchell IDs, and Central Nebraska Public Power and ID.

26. Belle Fourche ID, Belle Fourche Project, South Dakota: Belle Fourche ID has requested a $25,000 reduction in construction repayment. Negotiations are pending resolution of contract language.

27. Helena Valley Unit, P-SMBP, Montana: Initiating negotiations for renewal of Part A of the A/B contract with Helena Valley ID which expires in 2004.

28. Crow Creek Unit, P-SMBP, Montana: Initiating negotiations for renewal of Part A of the A/B contract with Toston ID which expires in 2004.

29. Louis F. Polk, Jr. (Individual), Shoshone Project, Buffalo Bill Dam, Wyoming: Renewal of exchange water service contract not to exceed 500 acre-feet of water to service 249 acres.

30. Milk River Project, Montana: City of Harlem water service contract expires July of 2002. Initiating negotiation for renewal of a water service contract for an annual supply of raw water for domestic use from the Milk River not to exceed 500 acre-feet. An interim contract may be issued to continue delivery of water until the necessary actions can be completed to renew the long-term contract.

31. Lower Marias Unit, P-SMBP, Montana: City of Chester water service contract expires December of 2002. Initiating negotiation for renewal of a long-term water service contract for an annual supply of raw water for domestic use from Tiber Reservoir not to exceed 500 acre-feet. An interim contract may be issued to continue delivery of water until the necessary actions can be completed to renew the long-term contract.

32. City of Dickinson, P-SMBP, Dickinson Unit, North Dakota: Negotiate a long-term water service contract with the City of Dickinson or Park Board, for minor amounts of water from Dickinson Dam.

33. Clark Canyon Water Supply Company, East Bench Unit, Montana: Initiating renewal of contract No. 14-06-600-3592 which expires December 31, 2005.

34. East Bench ID, East Bench Unit, Montana: Initiating renewal of contract No. 14-06-600-3593 which expires December 31, 2005.

35. Pueblo Board of Water Works, Fryingpan-Arkansas Project, Colorado: Water conveyance contract expires in October of 2002. Initiating negotiation for renewal of a water conveyance contract for annual conveyance of up to 750 acre-feet of nonproject water through the Nast and Boustead Tunnel System.

36. City of Dickinson, P-SMBP, North Dakota: In accordance with Public Law 106-566, a BON has been prepared to amend contract No. 9-07-60-W0384 which will allow the City to pay a lump-sum payment in lieu of its remaining repayment obligation for construction costs associated with the bascule gate. The BON has been approved by the Commissioner.

37. Lower Marias Unit, P-SMBP, Montana: Initiating long-term water service contract for up to 910 acre-feet of storage from Tiber Reservoir to irrigate 303.2 acres. Temporary/interim contracts are being issued to allow continued delivery of water and the time necessary to complete required actions for the long-term contract process.

38. Tom Green County Water Control and Improvement District No. 1, San Angelo Project, Texas: The District has requested deferment of its 2002 repayment obligation. A BON has been prepared to amend contract No. 14-06-500-369.

39. La Feria ID, Lower Rio Grande Rehabilitation Project, LaFeria Division, Texas: The District has repaid the repayment obligation and title to all project works, lands, or interests in lands originally conveyed by the District to the United States shall now be transferred back to the District in accordance with the authorizing legislation, Public Law 86-357 dated September 22, 1959, and the contract shall be terminated.

40. Northern Colorado Water Conservancy District, Colorado-Big Thompson Project, Colorado: Acting by and through the Pleasant Valley Pipeline Project Water Activity Enterprise, beginning discussions and draft BON for a long-term contract for conveyance of nonproject water through Colorado-Big Thompson Project facilities.

Dated: January 4, 2002.
Elizabeth Cordova-Harrison,
Deputy Director, Office of Policy.

[FR Doc. 02-2316 Filed 1-30-02; 8:45 am]

BILLING CODE 4310-MN-P